DEPARTMENT OF TRANSPORTATION

Federal Aviation Administration

[Docket No. FAA-2023-25488]

Random Drug and Alcohol Testing Percentage Rates of Covered Aviation Employees for the Period January 1, 2024 to December 31, 2024; Correction

AGENCY: Federal Aviation Administration (FAA), Department of Transportation (DOT).

ACTION: Random drug and alcohol testing percentage rates of covered aviation employees for the period January 1, 2024 to December 31, 2024; correction.

SUMMARY: On November 17, 2023, the Federal Aviation Administration (FAA) published the Random Drug and Alcohol Testing Percentage Rates of Covered Aviation Employees for the Period January 1, 2024 to December 31, 2024. In that document, the FAA inadvertently provided incorrect years in the supplementary information section. This document corrects that error.

DATES: This correction is effective December 15, 2023.

FOR FURTHER INFORMATION CONTACT: Ms. Vicky Dunne, Federal Aviation Administration, Office of Aerospace Medicine, Drug Abatement Division, Program Policy Branch; Email drugabatement@faa.gov; Telephone (202) 267-8442.

SUPPLEMENTARY INFORMATION: On November 17, 2023, the Federal Aviation Administration (FAA) published the Random Drug and Alcohol Testing Percentage Rates of Covered Aviation Employees for the Period January 1, 2024 to December 31, 2024; Corrections. In the second column, third paragraph under the supplementary section of the document, the year appeared as 2023 instead of 2024. In the third column, first paragraph under the supplementary section of the document, the year appeared as 2022 instead of 2024. This document corrects that error.

Corrections

In the Federal Register of November 17, 2023, in FR Doc. 2023-25488, on page 80376, in the second column, the year 2023 in the thirty-first line in the SUPPLEMENTARY INFORMATION section should be 2024.

In the Federal Register of November 17, 2023, in FR Doc. 2023-25488, on page 80376, in the third column, the year 2022 in the third line in the SUPPLEMENTARY INFORMATION section should be 2024.

Docket No. FAA-2023-25488

Issued in Washington, DC.
Virginia Lozada,
Acting Director, Drug Abatement Division.

[FR Doc. 2023-27501 Filed 12-14-23; 8:45 am]

BILLING CODE 4910-13-P